DEPARTMENT OF AGRICULTURE

Agricultural Research Service

Notice of Appointment of Committee Members to the Advisory Committee on Biotechnology and 21st Century Agriculture

AGENCY: Office of the Under Secretary, Research, Education, and Economics, USDA.

ACTION: Notice of Appointment of Committee Members to the Advisory Committee on Biotechnology and 21st Century Agriculture.

SUMMARY: The Office of the Under Secretary, Research, Education, and Economics of the Department of Agriculture, in accordance with the Federal Advisory Committee Act, 5 U.S.C. App. 2, announces the appointment of members to the Advisory Committee on Biotechnology and 21st Century Agriculture (“AC21”).

FOR FURTHER INFORMATION CONTACT: Michael Schechtman, Telephone: 202-720-3817, Fax: 202-690-4265, or e-mail AC21@ars.usda.gov.

SUPPLEMENTARY INFORMATION: Twenty-two members were appointed from nominations of more than 150 well-qualified individuals, representing the biotechnology industry, the organic food industry, farming communities, the seed industry, food manufacturers, State government, consumer and community development groups, the medical profession, and academic researchers. Equal opportunity practices were followed in appointing committee members. To assure that recommendations of the advisory committee take into account the needs of diverse groups served by the Department, membership includes, to the extent practicable, individuals with demonstrated ability to represent minorities, women, and persons with disabilities.

The following appointments to the AC21 have been made:

Russell C. Redding, Interim Dean of Agriculture and Environmental Sciences, Delaware Valley College, in Aspers, Pennsylvania, who will serve as Chair of the AC21;

Isaura Andaluz, Executive Director, Cuatro Puertas, of Albuquerque, New Mexico;

Paul C. Anderson, Executive Director, International Programs, Donald Danforth Plant Science Center, in St. Louis, Missouri;

Laura L. Batcha, Chief of Policy and External Relations, Organic Trade Association, in Putney, Vermont;

Charles M. Benbrook, Chief Scientist, The Organic Center, in Enterprise, Oregon;

Barry R. Bushue, Farmer, Vice-President of the American Farm Bureau Federation and President of the Oregon Farm Bureau, in Boring, Oregon;

Daryl D. Buss, Dean, School of Veterinary Medicine, University of Wisconsin in Madison, Wisconsin;

Lynn E. Clarkson, Farmer and President, Clarkson Grain Company, in Cerro Gordo, Illinois;

Leon C. Corzine, Farmer, in Assumption, Illinois;

Michael S. Funk, Chairman, United Natural Foods, Inc., in Nevada City, California;

Douglas C. Goehring, North Dakota Commissioner of Agriculture, in Menoken, North Dakota;

Melissa L. Hughes, Corporate Counsel and Director, Government Affairs, CROPP Cooperative/Organic Valley Family of Farms, in Viroqua, Wisconsin;

Darrin Ihnen, Farmer and Chair, National Corn Growers Association, in Hurley, South Dakota;

Gregory A. Jaffe, Director, Biotechnology Project, Center for Science in the Public Interest, in McLean,Virginia;

David W. Johnson, Assistant Director of Research, Cal/West Seeds, in La Crosse, Wisconsin;

Keith F. Kisling, Farmer and Chairman, Oklahoma Wheat Commission, in Burlington, Oklahoma;

Josephine O. (Josette) Lewis, Director, Agricultural Development, Arcadia Biosciences, in Davis, California;

Mary-Howell R. Martens, Farmer and Manager, Lakeview Organic Grain LLC, in Penn Yan, New York;

Marty D. Matlock, Professor of Ecological Engineering, Department of Biological and Agricultural Engineering, University of Arkansas, in Fayetteville, Arkansas;

Angela M. Olsen, Senior Advisor and Associate General Counsel, DuPont Company and Pioneer Hi-Bred, in Arlington, Virginia;

Jerome B. Slocum, Farmer and President, North Mississippi Grain Company, in Coldwater, Mississippi;

Latresia A. Wilson, Vice-President, Black Farmers and Agriculturalists Association, Florida Chapter, farmer, and physician, in Ocala, Florida.

Committee members will initially serve one- or two-year terms, and may be reappointed to serve up to six consecutive years. In the event of a vacancy, the Secretary will appoint a new member as appropriate and subject to the provisions of the Federal Advisory Committee Act. The duties of the Committee are solely advisory. Under its Charter, the AC21 is charged with examining the long-term impacts of biotechnology on the U.S. food and agriculture system and USDA, and providing guidance to USDA on pressing individual issues, identified by the Office of the Secretary, related to the application of biotechnology in agriculture. The immediate task for the committee within the overall charge will be to provide practical recommendations to the Secretary of Agriculture on ways to strengthen coexistence among different agricultural crop production methods.

The Committee will meet in Washington, DC, up to four (4) times per year.

Committee members will serve without pay. Reimbursement of travel expenses and per diem costs shall be made to Committee members who would be unable to attend Committee meetings without such reimbursement.

Dated: June 24, 2011.
Catherine E. Woteki,
Under Secretary, Research, Education, and Economics.

[FR Doc. 2011-16431 Filed 6-29-11; 8:45 am]

BILLING CODE 3410-03-P